DEPARTMENT OF LABOR

Employment and Training Administration

[TA-W-54,963]

Snow River Products, Crandon, WI; Notice of Termination of Investigation

Pursuant to section 221 of the Trade Act of 1974, as amended, an investigation was initiated on May 24, 2004, in response to a petition filed on behalf of workers at Snow River Products, Crandon, Wisconsin.

One of the three petitioning workers was separated from the subject firm more than one year before the date of the petition. Section 223(b) of the Act specifies that no certification may apply to any worker whose last separation occurred more than one year before the date of the petition. Consequently, further investigation in this case would serve no purpose, and the investigation has been terminated.

Signed in Washington, DC this 1st day of June, 2004.
Linda G. Poole,
Certifying Officer, Division of Trade Adjustment Assistance.

[FR Doc. 04-13376 Filed 6-14-04; 8:45 am]

BILLING CODE 4510-30-P